NATIONAL SCIENCE FOUNDATION

National Science Board Commission on 21st Century Education in Science, Technology, Engineering, and Mathematics (29127); Notice of Meeting

In accordance with the Federal Advisory Committee Act (Pub. L. 92-463, as amended), the National Science Board announces the following meeting:

Date and Time: Thursday, March 8, 2007, 11:30 a.m.-1 p.m. EST (teleconference meeting).

Place: National Science Foundation, 4201 Wilson Blvd., Arlington, Virginia. Room 1235 will be available to the public to listen to this teleconference meeting.

Type of Meeting: Open.

Contact Person: Dr. Elizabeth Strickland, Commission Executive Secretary, National Science Board Office, National Science Foundation, 4201 Wilson Blvd, Arlington, VA 22230. Telephone: 703-292-4527. E-mail: estrickl@nsf.gov.

Purpose of Meeting: To discuss draft report.

Agenda: Discussion of draft report for submission to the National Science Board.

Susanne Bolton,
Committee Management Officer.

[FR Doc. E7-2967 Filed 2-21-07; 8:45 am]

BILLING CODE 7555-01-P